NATIONAL AERONAUTICS AND SPACE ADMINISTRATION

[Notice 01-089]

NASA Advisory Council, Minority Business Resource Advisory Committee Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Thursday, August 23, 2001, 9 a.m. to 4 p.m., and Friday, August 24, 2001, 9 a.m. to 12 noon.

ADDRESSES: NASA Headquarters, 300 E Street, SW., Room 9H40, Washington, DC.

FOR FURTHER INFORMATION CONTACT: Mr. Ralph C. Thomas III, Code K, National Aeronautics and Space Administration, Room 9K70, 300 E Street, SW., Washington, DC 20546-0001, (202) 358-2088.

SUPPLEMENTARY INFORMATION: The meeting will be open to the public up to the seating capacity of the room. The agenda for the meeting is as follows:

—Overview of NASA

—Welcoming of new MBRAC members

—Purpose of MBRAC Committee

—Travel Procedures

—Goals for MBRAC V

—Public Comment

—Overview of NASA's Small Business Program

—MBRAC's Impact on NASA

—Status of Open Committee Recommendations

It is imperative that the meeting be held on these dates to accommodate the scheduling priorities of the key participants. Visitors will be requested to sign a visitor's register.

Dated: July 12, 2001.
Beth M. McCormick,
Advisory Committee Management Officer, National Aeronautics and Space Administration.

[FR Doc. 01-18045 Filed 7-18-01; 8:45 am]

BILLING CODE 7510-01-U